DEPARTMENT OF HEALTH AND HUMAN SERVICES

National Institutes of Health

Center for Scientific Review; Amended Notice of Meeting

Notice is hereby given of a change in the meeting of the Center for Scientific Review Special Emphasis Panel, October 27, 2014, 07:30 a.m. to October 28, 2014, 06:00 p.m., Doubletree Guest Suites Santa Monica, 1707 Fourth Street, Santa Monica, CA, 90401 which was published in the Federal Register on October 06, 2014, 79 FR 60175.

The meeting will start on October 27, 2014. The meeting time and location remains the same.

The meeting is closed to the public.

Dated: October 7, 2014.
Michelle Trout,
Program Analyst, Office of Federal Advisory Committee Policy.

[FR Doc. 2014-24380 Filed 10-14-14; 8:45 am]

BILLING CODE 4140-01-P